FEDERAL RESERVE SYSTEM

Privacy Act of 1974; System of Records

AGENCY: Board of Governors of the Federal Reserve System.

ACTION: Notice of a Modified System of Records.

SUMMARY: Pursuant to the provisions of the Privacy Act of 1974, notice is given that the Board of Governors of the Federal Reserve System (Board) proposes to modify an existing system of records, entitled BGFRS-23, “FRB—Freedom of Information Act and Privacy Act Case Tracking and Reporting System.” The system, which the Board is proposing to rename as BGFRS-23, “FRB—Freedom of Information Act and Privacy Act Case Automation System,” contains tracking, reporting, and processing information for Freedom of Information Act (FOIA) and Privacy Act requests.

DATES: Comments must be received on or before January 20, 2021. This modified system of records will become effective January 20, 2021, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-23: “FRB-Freedom of Information Act and Privacy Act Case Automation System,” by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons or to remove sensitive personally identifiable information. Public comments may also be viewed electronically or in paper in Room 146, 1709 New York Avenue NW, Washington, DC 20006, between 9:00 a.m. and 5:00 p.m. on weekdays.

FOR FURTHER INFORMATION CONTACT: David B. Husband, Counsel, (202) 530-6270, or david.b.husband@frb.gov; Legal Division, Board of Governors of the Federal Reserve System, 20th Street and Constitution Avenue NW, Washington, DC 20551.

SUPPLEMENTARY INFORMATION: The Board is modifying this system of records to reflect the adoption of a cloud-based solution to automate the processing of FOIA and Privacy Act requests that also provides for the interoperability between the new National FOIA Portal and agency FOIA platforms consistent with federal mandates. Currently, the records in the system are stored on premises. The new system will improve the processing of requests as it not only allows Board staff, including staff responding to requests for records maintained for the Federal Open Market Committee (FOMC), to track requests but also allows staff to conduct business processes electronically within the system such as the transmittal of acknowledgment letters. The new system will also allow staff to store the responses and responsive documents within the system. Records will be stored both on the Board's premises and in the cloud solution managed by the vendor. The Board is also amending BGFRS-23 to reflect that, in connection with the processing of Privacy Act requests, the Board will also collect citizenship status, an additional category of record. In addition, because the records implicate the interests of entities other than federal agencies, the Board is also modifying an existing system-specific routine use to allow the Board also to share the information with state agencies and other entities that have a substantial interest in the determination of the request or may be appropriate for staff to consult with on the propriety of access to a record.

Accordingly, the Board is amending the system to reflect changes in the history section, the categories of records, the system manager to identify the responsible parties, the system location to update the physical location of the underlying records, and the policies and practices for retention and disposal of records to address physical paper records. The Board is also renaming the system name to account for the revised scope of records stored in the system.

SYSTEM NAME AND NUMBER:

BGFRS-23, “FRB—Freedom of Information Act and Privacy Act Case Automation System.”

SECURITY CLASSIFICATION:

Unclassified.

SYSTEM LOCATION:

The Board maintains the records at the Board's central office, located at: Board of Governors of the Federal Reserve System, 20th Street and Constitution Avenue NW, Washington, DC 20551 and AINS, 806 W Diamond Ave, Gaithersburg, MD 20878.

SYSTEM MANAGER(S):

Candace Ambrose, Manager, Information Disclosure Section, Office of the Secretary, Board of Governors of the Federal Reserve System, 20th Street and Constitution Avenue NW, Washington, DC 20551, 202-452-2407, or candace.ambrose@frb.gov.

AUTHORITY FOR MAINTENANCE OF THE SYSTEM:

Freedom of Information Act (5 U.S.C. 552), the Privacy Act of 1974 (5 U.S.C. 552a), and 12 CFR 261 and 261a.

PURPOSE(S) OF THE SYSTEM:

The records are collected and maintained in connection with the execution of Freedom of Information Act and Privacy Act responsibilities including the processing of FOIA and Privacy Act requests.

CATEGORIES OF INDIVIDUALS COVERED BY THE SYSTEM:

Individual requesters who submit requests and administrative appeals pursuant to the provisions of the FOIA or Privacy Act; individual requesters whose FOIA or Privacy Act requests, appeals, or other records, have been referred to Board staff by other agencies; attorneys or other persons who are authorized to represent individuals submitting requests and appeals; and individuals who are the subject of FOIA requests or appeals.

CATEGORIES OF RECORDS IN THE SYSTEM:

Records in this system contain contact information on requesters and the attorneys/representatives of the requestors, including names, organizations, affiliations, addresses, email addresses, facsimile numbers, and telephone numbers. Privacy Act requests may include citizenship status. Records may also include the date the request was made, a description of the information requested, the staff assigned to process the request or appeal, the user name and password (for online requesters), financial information, fee information, employment records, medical records, legal documents (e.g., enforcement records), investigatory documents, education records, documents that contain information about individuals that are required to fulfill the request, and communications (e.g., emails and letters) to and from the requester, and documents that are responsive to the FOIA or Privacy Act request. The system may also include voluntarily submitted information, which staff have not requested, including but not limited to an individual's social security number and bank account or mortgage loan numbers. Board staff compile statistical and administrative data on the requests processed for reporting purposes, including annual FOIA reports to the Department of Justice, submitted in accordance with 5 U.S.C. 552(e).

RECORD SOURCE CATEGORIES:

Information is provided by the individual making the request or their representative, or by agencies referring requests for access to records that originated from the Board (including those maintained for the FOMC), and staff engaged in processing or making determinations on the requests.

ROUTINE USES OF RECORDS MAINTAINED IN THE SYSTEM, INCLUDING CATEGORIES OF USERS AND PURPOSES OF SUCH USES:

General routine uses C, D, G, I, and J apply to this system. These general routine uses are located at https://www.federalreserve.gov/files/SORN-page-general-routine-uses-of-board-systems-of-records.pdf and are published in the Federal Register at 83 FR 43872 at 43873-74 (August 28, 2018). In addition, records may also be disclosed to:

1. A federal or state government agency, foreign government, institution, firm, or organization having a substantial interest in the determination of the request or for the purpose of consulting with that entity as to the propriety of access to the record in order to complete the processing of the request;

2. The National Archives and Records Administration, Office of Government Information Services (OGIS), to the extent necessary to fulfill its responsibilities in 5 U.S.C. 552(h), to review administrative agency policies, procedures and compliance with the FOIA and to facilitate OGIS' offering of mediation services to resolve disputes between persons making FOIA requests and administrative agencies; and

3. The news media and the public, unless it is determined that release of specific information in the context of a particular case would constitute an unwarranted invasion of personal privacy.

POLICIES AND PRACTICES FOR STORAGE OF RECORDS:

Electronic records are stored on a secure server.

POLICIES AND PRACTICES FOR RETRIEVAL OF RECORDS:

Records can be retrieved by the name of the requester, tracking number assigned to the request, subject matter of the request, or any other field of information that is collected.

POLICIES AND PRACTICES FOR RETENTION AND DISPOSAL OF RECORDS:

The Board retains the records for the designated retention period, which ranges from six years after final agency action or three years after final adjudication by the courts, whichever is later, but longer retention is authorized if required for business use. Requests submitted in paper form are scanned as electronic records and the paper copies of the request are disposed in accordance with applicable procedures.

ADMINISTRATIVE, TECHNICAL, AND PHYSICAL SAFEGUARDS:

The system has the ability to track individual user actions within the system. The audit and accountability controls are based on NIST and Board standards, which are based on applicable laws and regulations. The controls assist in detecting security violations and performance or other issues in the system. Access to the system is restricted to authorized users within the Board who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) Contain a statement that it is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records. You may submit your Privacy Act request to the—Secretary of the Board, Board of Governors of the Federal Reserve System, 20th Street and Constitution Avenue NW, Washington DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

No exemptions are claimed for this system.

HISTORY:

This SORN was previously published in the Federal Register at 84 FR 71421 (December 27, 2019) and 73 FR 24984 at 25002 (May 6, 2008). The SORN was also amended to incorporate two new routine uses required by OMB at 83 FR 43872 (August 28, 2018).

Board of Governors of the Federal Reserve System.
Ann Misback,
Secretary of the Board.

[FR Doc. 2020-27990 Filed 12-18-20; 8:45 am]

BILLING CODE P